DEPARTMENT OF TRANSPORTATION

Federal Aviation Administration

14 CFR Part 39

[Docket No. FAA-2018-0410; Product Identifier 2018-NM-030-AD; Amendment 39-19444; AD 2018-20-10]

RIN 2120-AA64

Airworthiness Directives; Airbus SAS Airplanes

AGENCY: Federal Aviation Administration (FAA), Department of Transportation (DOT).

ACTION: Final rule.

SUMMARY: We are adopting a new airworthiness directive (AD) for all Airbus SAS Model A350-941 airplanes. This AD was prompted by an inspection on the production line that revealed evidence of paint peeling on the forward and aft cargo frame forks around the hook bolt hole. This AD requires a detailed visual inspection for any deficiency of the frame forks around the hook bolt hole on certain forward and aft cargo doors and applicable corrective actions. We are issuing this AD to address the unsafe condition on these products.

DATES: This AD is effective November 15, 2018.

The Director of the Federal Register approved the incorporation by reference of a certain publication listed in this AD as of November 15, 2018.

ADDRESSES: For service information identified in this final rule, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2018-0410.

Examining the AD Docket

You may examine the AD docket on the internet at http://www.regulations.gov by searching for and locating Docket No. FAA-2018-0410; or in person at Docket Operations between 9 a.m. and 5 p.m., Monday through Friday, except Federal holidays. The AD docket contains this final rule, the regulatory evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Kathleen Arrigotti, Aerospace Engineer, International Section, Transport Standards Branch, FAA, 2200 South 216th St., Des Moines, WA 98198; telephone and fax 206-231-3218.

SUPPLEMENTARY INFORMATION:

Discussion

We issued a notice of proposed rulemaking (NPRM) to amend 14 CFR part 39 by adding an AD that would apply to all Airbus SAS Model A350-941 airplanes. The NPRM published in the Federal Register on May 15, 2018 (83 FR 22414). The NPRM was prompted by an inspection on the production line that revealed evidence of paint peeling on the forward and aft cargo frame forks around the hook bolt hole. The NPRM proposed to require a detailed visual inspection for any deficiency of the frame forks around the hook bolt hole on certain forward and aft cargo doors and applicable corrective actions.

We are issuing this AD to address paint peeling on the forward and aft cargo doors that could develop into galvanic corrosion, which could lead to cargo door failure and possibly result in decompression of the airplane and injury to occupants.

The European Aviation Safety Agency (EASA), which is the Technical Agent for the Member States of the European Union, has issued EASA AD 2018-0031, dated January 31, 2018 (referred to after this as the Mandatory Continuing Airworthiness Information, or “the MCAI”), to correct an unsafe condition for all Airbus SAS Model A350-941 airplanes. The MCAI states:

Following an inspection on the production line, paint peeling was found on forward and aft cargo door frame forks around the hook bolt hole. Subsequent investigations determined this had been caused by incorrect masking method during application of primer, top coat and Tartaric Sulfuric Anodizing (TSA) layer. As the cargo doors are located in an area with high corrosion sensitivity, where a surface protection with primer, top coat and TSA is specified, in case of paint peeling off, galvanic corrosion could develop.

This condition, if not detected and corrected, could lead to cargo door failure, possibly resulting in decompression of the aeroplane and injury to occupants.

To address this potential unsafe condition, Airbus identified the affected parts and issued the SB [Airbus Service Bulletin (SB) A350-52-P011, dated May 12, 2017] to provide inspection instructions.

For the reasons described above, this [EASA] AD requires a one-time detailed [visual] inspection (DET) of the affected parts [for discrepancies] and, depending on findings, accomplishment of applicable corrective action(s) [i.e., restoration of the anti-corrosion protection of frame forks of affected parts].

You may examine the MCAI in the AD docket on the internet at http://www.regulations.gov by searching for and locating Docket No. FAA-2018-0410.

Comments

We gave the public the opportunity to participate in developing this final rule. We received no comments on the NPRM or on the determination of the cost to the public.

Clarification of Definition of Serviceable Part

We have changed paragraph (g)(2) in this AD by adding that a serviceable part is also “a part identified as an affected part, and the actions in paragraph (i) of this AD have been accomplished on that part.” This change has been coordinated with EASA and Airbus.

Conclusion

We reviewed the relevant data and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus SAS has issued Airbus Service Bulletin A350-52-P011, dated May 12, 2017. This service information describes procedures for a one-time detailed visual inspection of the frame forks around the hook bolt hole on the forward and aft cargo door, and applicable corrective actions. This service information is reasonably available because the interested parties have access to it through their normal course of business or by the means identified in the ADDRESSES section.

Costs of Compliance

We estimate that this AD affects 9 airplanes of U.S. registry.

We estimate the following costs to comply with this AD:

Estimated Costs
Action | Labor cost | Parts cost | Cost per product | Cost on U.S. operators
Inspection | Up to 9 work-hours × $85 per hour = $765 | $0 | Up to $765 | Up to $6,885.

We estimate the following costs to do any necessary on-condition actions that would be required based on the results of the inspection. We have no way of determining the number of aircraft that might need this action:

On-Condition Costs
Action | Labor cost | Parts cost | Cost per product
Restoration | 9 work-hours × $85 per hour = $765 | $50 | $815.

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-20-10 Airbus SAS: Amendment 39-19444; FAA-2018-0410; Product Identifier 2018-NM-030-AD.

(a) Effective Date

This AD is effective November 15, 2018.

(b) Affected ADs

None.

(c) Applicability

This AD applies to Airbus SAS Model A350-941 airplanes, certificated in any category, all manufacturer serial numbers.

(d) Subject

Air Transport Association (ATA) of America Code 52, Doors.

(e) Reason

This AD was prompted by an inspection on the production line that revealed evidence of paint peeling on the forward and aft cargo frame forks around the hook bolt hole. We are issuing this AD to address paint peeling on the forward and aft cargo doors that could develop into galvanic corrosion, which could lead to cargo door failure and possibly result in decompression of the airplane and injury to occupants.

(f) Compliance

Comply with this AD within the compliance times specified, unless already done.

(g) Definitions

(1) For the purpose of this AD, the affected parts are forward cargo doors, part number (P/N) WG102AGAAAAF and P/N WG102AKAAAAF, serial number (S/N) UH10007 through UH10022 inclusive, except S/N UH10009; and aft cargo doors P/N WH102AHAAAAC and P/N WH102ALAAAAC, S/N UH10008 through UH10022 inclusive.

(2) For the purpose of this AD, a serviceable forward cargo door or a serviceable aft cargo door is a part that is not identified as an affected part, or is a part identified as an affected part on which a detailed visual inspection specified in Airbus Service Bulletin A350-52-P011, dated May 12, 2017, has been done and there were no findings, or is a part identified as an affected part, and the actions in paragraph (i) of this AD have been accomplished on that part.

(h) Inspection

Within 36 months since the date of issuance of the original standard airworthiness certificate or date of issuance of the original export certificate of airworthiness, or within 90 days after the effective date of this AD, whichever occurs later, accomplish a detailed visual inspection of each affected part for any deficiency (e.g., any paint peel-off of the hook bolt hole of the frame fork), in accordance with the Accomplishment Instructions of Airbus Service Bulletin A350-52-P011, dated May 12, 2017.

(i) Corrective Actions

If, during any detailed visual inspection required by paragraph (h) of this AD, any deficiency is found, before next flight, restore the anti-corrosion protection of frame forks of the affected part, in accordance with the Accomplishment Instructions of Airbus Service Bulletin A350-52-P011, dated May 12, 2017, except as required by paragraph (j) of this AD.

(j) Exceptions to Service Information Specifications

Where Airbus Service Bulletin A350-52-P011, dated May 12, 2017, specifies contacting Airbus, and specifies that action as RC: This AD requires repair using a method approved in accordance with the procedures specified in paragraph (l)(2) of this AD.

(k) Parts Installation Limitation

From the effective date of this AD, it is allowed to install on an airplane a forward cargo door or an aft cargo door, provided the part is a serviceable forward cargo door or serviceable aft cargo door as defined in paragraph (g)(2) of this AD.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): Except as required by paragraph (j) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA AD 2018-0031, dated January 31, 2018, for related information. This MCAI may be found in the AD docket on the internet at http://www.regulations.gov by searching for and locating Docket No. FAA-2018-0410.

(2) For more information about this AD, contact Kathleen Arrigotti, Aerospace Engineer, International Section, Transport Standards Branch, FAA, 2200 South 216th St., Des Moines, WA 98198; telephone and fax 206-231-3218.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A350-52-P011, dated May 12, 2017.

(ii) Reserved.

(3) For service information identified in this AD, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on September 19, 2018.
John P. Piccola,
Acting Director, System Oversight Division, Aircraft Certification Service.

[FR Doc. 2018-21605 Filed 10-10-18; 8:45 am]

BILLING CODE 4910-13-P